DEPARTMENT OF THE INTERIOR

Bureau of Indian Affairs

[212A2100DD/AAKC001030/A0A501010.999900253G]

Indian Gaming; Approval of Tribal-State Class III Gaming Compact in the State of Connecticut

AGENCY: Bureau of Indian Affairs, Interior.

ACTION: Notice.

SUMMARY: This notice publishes the approval of the Agreement Between the Mohegan Tribe of Indians of Connecticut (Tribe) and the State of Connecticut (State) to amend the Tribe's Class III Gaming Compact (Amendment) and Memorandum of Understanding (MOU).

DATES: The Amendment takes effect on September 15, 2021.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment, the MOU and the State of Connecticut House Bill No. 6451 (State Gaming Act) work in unison to provide the Mohegan Tribe and the Mashantucket Pequot Tribe with exclusivity for online casino gaming in the State, two of three licenses for off-reservation sports wagering, and online on-reservation casino gaming and sports wagering. The Amendment and MOU are approved.

Bryan Newland,
Assistant Secretary—Indian Affairs.

[FR Doc. 2021-19839 Filed 9-14-21; 8:45 am]

BILLING CODE 4337-15-P